DEPARTMENT OF ENERGY

Federal Energy Regulatory Commission

Sunshine Act Meeting Notice

November 10, 2011.

The following notice of meeting is published pursuant to section 3(a) of the government in the Sunshine Act (Pub. L. 94-409), 5 U.S.C. 552b:

AGENCY: Agency Holding Meeting: Federal Energy Regulatory Commission.

DATES: Date and Time: November 17, 2011, 10 a.m.

PLACE: Room 2C, 888 First Street NE., Washington, DC 20426.

STATUS: Open.

MATTERS TO BE CONSIDERED: Agenda.*

Note: Items listed on the agenda may be deleted without further notice.

CONTACT PERSON FOR MORE INFORMATION: Kimberly D. Bose, Secretary, Telephone (202) 502-8400. For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

975th Meeting

Regular Meeting
[November 17, 2011, 10 a.m.]
Item No. | Docket No. | Company
Administrative
A-1 | AD02-1-000 | Agency Business Matters.
A-2 | AD02-7-000 | Customer Matters, Reliability, Security and Market Operations.
A-3 | AD07-13-004 | 2011 Report on Enforcement.
Electric
E-1 | ER11-4574-000 | PJM Interconnection, L.L.C. and Trans-Allegheny Interstate Line Company.
E-2 | RR11-1-002 | Nebraska Public Power District and Southwest Power Pool Regional Entity.
E-3 | ER11-3616-000, ER11-3616-001 | California Independent System Operator Corporation.
E-4 | RD11-3-000 | North American Electric Reliability Corporation.
E-5 | RD11-10-000 | North American Electric Reliability Corporation.
E-6 | RC11-1-001 | Cedar Creek Wind Energy, LLC.
| RC11-2-001 | Milford Wind Corridor Phase I, LLC.
E-7 | EL11-33-001 | Northeast Transmission Development, LLC.
E-8 | EL11-58-000 | Duke Energy Ohio, Inc.
E-9 | ER05-1065-011, OA07-32-008 | Entergy Services, Inc.
E-10 | ER09-1273-002, ER09-1273-004 | Westar Energy, Inc.
E-11 | ER11-2875-001, ER11-2875-002 | PJM Interconnection, L.L.C.
| EL11-20-001 | PJM Power Providers Group v. PJM Interconnection, L.L.C.
E-12 | ER10-1706-001, ER10-1706-002 | California Independent System Operator Corporation.
E-13 | RR11-5-000 | North American Electric Reliability Corporation.
E-14 | ER11-4215-000 | Nevada Power Company.
Gas
G-1 | RM11-15-000 | Bidding by Affiliates in Open Seasons for Pipeline Capacity.
G-2 | RP12-121-000 | Bear Creek Storage Company L.L.C.
G-3 | RP12-122-000 | MIGC LLC.
G-4 | RP12-123-000 | ANR Storage Company.
Hydro
H-1 | RM11-6-000 | Annual Charges for Use of Government Lands.
H-2 | P-2576-151 | FirstLight Hydro Generating Company.
H-3 | P-2601-015 | Duke Energy Carolinas, LLC.
H-4 | P-11858-004 | The Nevada Hydro Company, Inc.
Certificates
C-1 | OMITTED |
C-2 | CP11-493-000 | Dominion Transmission, Inc.
C-3 | CP11-67-000, CP11-67-001 | Texas Eastern Transmission, LP.
C-4 | CP11-36-001 | Tennessee Gas Pipeline Company.

A free webcast of this event is available through http://www.ferc.gov. Anyone with Internet access who desires to view this event can do so by navigating to http://www.ferc.gov's Calendar of Events and locating this event in the Calendar. The event will contain a link to its webcast. The Capitol Connection provides technical support for the free webcasts. It also offers access to this event via television in the DC area and via phone bridge for a fee. If you have any questions, visit http://www.CapitolConnection.org or contact Danelle Springer or David Reininger at (703) 993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

Kimberly D. Bose,
Secretary.

[FR Doc. 2011-29684 Filed 11-14-11; 11:15 am]

BILLING CODE 6717-01-P